DEPARTMENT OF DEFENSE

Office of the Secretary

Meeting of the Department of Defense Military Family Readiness Council (MFRC)

AGENCY: Office of the Under Secretary of Defense for Personnel and Readiness, Department of Defense (DoD).

ACTION: Notice.

SUMMARY: Pursuant to Section 10(a), Public Law 92-463, as amended, notice is hereby given of a forthcoming meeting of the Department of Defense Military Family Readiness Council (MFRC). The purpose of the Council meeting is to review the military family programs which will be the focus for the Council for next year, review the status of warrior care, and address selected concerns of military family organizations.

The meeting is open to the public, subject to the availability of space. Persons desiring to attend may contact Ms. Melody McDonald at 571-256-1738 or e-mail FamilyReadinessCouncil@osd.mil no later than 5 p.m. on Tuesday, October 11, 2011 to arrange for parking and escort into the conference room inside the Pentagon.

Interested persons may submit a written statement for consideration by the Council. Persons desiring to submit a written statement to the Council must notify the point of contact listed below no later than 5 p.m., Wednesday, October 12, 2011.

DATES: October 17, 2011, from 3:30 p.m.-5 p.m.

ADDRESSES: Pentagon Conference Center M1 (escorts will be provided from the Pentagon Metro entrance).

FOR FURTHER INFORMATION CONTACT: Ms. Melody McDonald or Ms. Betsy Graham, Office of the Deputy Under Secretary (Military Community & Family Policy), 4000 Defense Pentagon, Room 2E319, Washington, DC 20301-4000. Telephones (571) 256-1738; (703) 697-9283 and/or e-mail: FamilyReadinessCouncil@osd.mil.

SUPPLEMENTARY INFORMATION: Meeting agenda.

Monday, 17 October 2011

Welcome & Administrative Remarks.

Review and Comment on Council Action from December meeting.

Priority Areas Briefings.

Intentions for the 2011 activities and meetings.

Closing Remarks.

Note: Exact order may vary.

Dated: September 21, 2011.
Aaron Siegel,
Alternate OSD Federal Register Liaison Officer, Department of Defense.

[FR Doc. 2011-24599 Filed 9-23-11; 8:45 am]

BILLING CODE 5001-06-P